DEPARTMENT OF ENERGY

Federal Energy Regulatory Commission

[Project No. 12775-001]

City of Spearfish, South Dakota; Notice of Application Ready for Environmental Analysis and Soliciting Comments, Recommendations, Terms and Conditions, and Prescriptions

May 18, 2009.

Take notice that the following hydroelectric application has been filed with the Commission and is available for public inspection.

a. Type of Application: Major Project.

b. Project No.: 12775-001.

c. Date Filed: September 10, 2008.

d. Applicant: City of Spearfish, South Dakota.

e. Name of Project: Spearfish Hydroelectric Project.

f. Location: On Spearfish Creek in Lawrence County, South Dakota. The project occupies about 57.3 acres of United States lands within the Black Hills National Forest administered by the U.S. Forest Service.

g. Filed Pursuant to: Federal Power Act 16 U.S.C. 791 (a)-825(r).

h. Applicant Contact: Ms. Cheryl Johnson, Public Works Administrator, City of Spearfish, 625 Fifth Street, Spearfish, SD 57783; (605) 642-1333; or e-mail at cherylj@city.spearfish.sd.us.

i. FERC Contact: Steve Hocking at (202) 502-8753 or steve.hocking@ferc.gov.

j. Deadline for filing comments, recommendations, terms and conditions, and prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

k. This application has been accepted and is now ready for environmental analysis.

l. The existing Spearfish Project consists of: (1) A 130-foot-long gravity dam with an effective height of 4 feet; (2) a 0.32-acre reservoir; (3) a gatehouse next to the dam that contains four 2-foot-high, 4-foot-wide steel intake gates; (4) a 4.5-mile-long, 6.5-foot-wide, 9-foot-high concrete-lined aqueduct; (5) a forebay pond; (6) two 1,200-foot-long, 48-inch diameter, wood stave pipelines; (7) four 36-inch-diameter, 54-foot-high standpipe surge towers; (8) two 5,250-foot-long, 30- to 34-inch diameter steel penstocks; (9) a reinforced concrete powerhouse containing two Pelton turbines and two 2,000-kilowatt (kW) generators; and (10) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

p. Procedural Schedule: The application will be processed according to the following revised Hydro Licensing Schedule. Revisions to the schedule will be made as appropriate.

Milestone | Target date
All stakeholders: recommendations, terms, and conditions due | July 17, 2009.
All stakeholders: reply comments due | August 31, 2009.
FERC issues draft environmental assess (EA) | November 3, 2009.
All stakeholders: draft EA comments due | December 3, 2009.
All stakeholders: modified terms and conditions due | February 1, 2010.
FERC issues final EA | March 30, 2010.

Kimberly D. Bose,
Secretary.

[FR Doc. E9-12088 Filed 5-22-09; 8:45 am]

BILLING CODE 6717-01-P